DEPARTMENT OF COMMERCE

National Oceanic and Atmospheric Administration

RIN: 0648-XN26

Caribbean Fishery Management Council; Public Meetings

AGENCY: National Marine Fisheries Service (NMFS), National Oceanic and Atmospheric Administration (NOAA), Commerce.

ACTION: Notice of public meetings of the Annual Catch Limit Plan Development Group (ACLG) and Scientific and Statistical Committee (SSC).

SUMMARY: The Caribbean Fishery Management Council will hold meetings of its ACLG and SSC.

DATES: The ACLG will meet on February 23-25, 2009, and the SSC will meet on February 26-27, 2009. Both meetings will be held at the Embassy Suites Hotel, located at 8080 Tartak St., Isla Verde, Carolina, Puerto Rico 00979.

FOR FURTHER INFORMATION CONTACT: Caribbean Fishery Management Council, 268 Munoz Rivera Avenue, Suite 1108, San Juan, Puerto Rico 00918; telephone: (787) 766-5926.

SUPPLEMENTARY INFORMATION: The ACLG will meet to discuss the items contained in the following agenda:

February 23, 2009

9:30 a.m. - 12 noon

•Call to Order

•Welcome (Mr. E. Pineiro-Soler, CFMC Chair)

•Introduction and Overview (Mr. Miguel A. Rolon, CFMC Executive Director)

•Final Guidelines Update (Dr. Andy Strelcheck)

•Overview of ACLG (Annual Catch Limit Plan Development Group) Terms of Reference (TOR)

•Report from the SEDAR Caribbean Data Evaluation Workshop (Dr. Todd Gedamke)

Data Availability on Fisheries Overfished and Undergoing Overfishing and Other Fisheries

Data Availability for (1) USVI (St. Thomas) (W. Tobias); (2) USVI (St. Croix) (W. Tobias); and (3) Puerto Rico (Daniel Matos)

SEDAR Summary Table on benchmarks and/or Overfishing Limit Advice

•National SSC Meeting Report (Dr. J. Berkson)

•Presentation on USVI Approach to ACLs (Dr. D. Olsen)

12 noon - 1:30 p.m. Lunch on your own

1:30 p.m. - 5 p.m.

•Review Ault and Appeldoorn Papers (Presentation)

•Other Business

Recreational Fishing (G. Garcia-Moliner)

Monitoring of Regulations in Place (G. Garcia-Moliner)

February 24, 2009

9 a.m. - 12 noon; 1:30 p.m. - 5 p.m.

12 noon - 1:30 p.m. Lunch on your own

•Questions to Answer:

•USVI Group - (Leader: Todd Gedamke)

St. Thomas/St. John

St. Croix

•PR Group - (Leader: Noemi Pena)

February 25, 2009

9 a.m. - 5 p.m.

12 noon - 1:30 p.m. Lunch on your own

•Report from USVI (Dr. Todd Gedamke)

•Report from Puerto Rico (Ms. Noemi Pena)

•Determination of ACLs and AMs

By Fishery (SFA Units: Groupers Unit 4, Parrotfishes, Queen Conch, etc.)

By Species

By Area

By Gear

•Recommendations to the SSC (TORs)

•Other Business

•Next Meeting

The SSC will meet to discuss the items contained in the following agenda:

February 26-27, 2009

9:30 a.m. - 5 p.m.

•Call to Order

•Annual Catch Limits(ACL)/Accountability Measures(AM)Final Guidelines - Andy Strelcheck

•ACLG Report

•National SSC Report

•Recommendations to the CFMC

•SEDAR Report

•Other Business

•Next Meeting

Special Accommodations

The meetings are physically accessible to people with disabilities. For more information or request for sign language interpretation and/other auxiliary aids, please contact Mr. Miguel A. Rolon, Executive Director, Caribbean Fishery Management Council, 268 Munoz Rivera Avenue, Suite 1108, San Juan, Puerto Rico 00918; telephone: (787) 766-5926, at least 5 days prior to the meeting date.

Dated: February 9, 2009.
Tracey L. Thompson,
Acting Director, Office of Sustainable Fisheries, National Marine Fisheries Service.

[FR Doc. E9-3011 Filed 2-11-09; 8:45 am]

BILLING CODE 3510-22-S